DEPARTMENT OF HOUSING AND URBAN DEVELOPMENT

[Docket No. FR-5280-N-19]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Melissa Evans, 1900 Half St., SW, CG-431, Washington, DC 20593-0001; (202) 475-5628; COE: Ms. Kim Shelton, Army Corps of Engineers, Office of Counsel, CECC-R, 441 G Street, NW., Washington, DC 20314; (202) 761-7696; GSA: Mr. Gordon Creed, Acting Deputy Assistant Commissioner, General Services Administration, Office of Property Disposal, 18th & F Streets, NW., Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: May 14, 2009.
Mark R. Johnston,
Deputy Assistant Secretary for Special Needs.

TITLE V, FEDERAL SURPLUS PROPERTY PROGRAM FEDERAL REGISTER REPORT FOR 05/22/2009

Suitable/Available Properties

Building

Maryland

Federal Office Building

7550 Wisconsin Ave.

Bethesda MD 20814

Landholding AGENCY: GSA

Property Number: 54200920007

Status: Surplus

GSA Number: GMR-1101-1

Comments: 100,000 sq. ft., (sq. ft. corrected from publication on 5/8/09), 10-story, requires major renovation, limited parking

Mississippi

Tract No. 205

Internal Access Roadway

3849 Wisconsin Ave.

Vicksburg MS 39180

Landholding Agency: COE

Property Number: 31200920025

Status: Excess

Comments: 1200 sq. ft., needs repair, off-site use only

Unsuitable Properties

Building

Alabama

Former COE Field Office

Mobile AL 36606

Landholding Agency: GSA

Property Number: 54200920011

Status: Excess

GSA Number: 4-D-AL-0547

Reasons: Extensive deterioration

California

Bldgs. 22172, 62432

Marine Corps Base

Camp Pendleton CA 92055

Landholding Agency: Navy

Property Number: 77200920027

Status: Excess

Reasons: Extensive deterioration Secured Area

Florida

Bldg. SF-78

Lock & Dam

Moore Haven FL

Landholding Agency: COE

Property Number: 31200920026

Status: Unutilized

Reasons: Extensive deterioration

Georgia

5 Comfort Stations

Hartwell Lake & Dam

Hartwell GA 30643

Landholding Agency: COE

Property Number: 31200920027

Status: Unutilized

Directions: HAR-16113, 18157, 18172, 18357, 18524

Reasons: Extensive deterioration

Well House #3

JST-15732

McCormick GA

Landholding Agency: COE

Property Number: 31200920028

Status: Unutilized

Reasons: Extensive deterioration

Illinois

22 Comfort Stations

Carlyle Lake Project

Carlyle IL 62231

Landholding Agency: COE

Property Number: 31200920032

Status: Unutilized

Directions: CB561-7908, 7909, 7911, 7926, 7927, 7997, 7998, 7999, 8016, 8035, 8037, 8038, 8039, 8040, 8041, 8042, 8078, 8079, 8081, 8097, 8106, 8126

Reasons: Extensive deterioration

Illinois

8 Bldgs.

Lake Shelbyville Project

Shelbyville IL 62565

Landholding Agency: COE

Property Number: 31200920033

Status: Excess

Directions: CB562-7062, 7087, 7088, 7089, 7106, 7140, 7166, 9038

Reasons: Extensive deterioration

23 Bldgs.

Rend Lake Project

Benton IL 62812

Landholding Agency: COE

Property Number: 31200920034

Status: Excess

Directions: CB639-7750, 8771, 7757, 7800, 7801, 7811, 7824, 7833, 7834, 7835, 7836, 7838, 7842, 7840, 7839, 7841, 7850, 7870, 7874, 7875, 7877, 7878, 7891

Reasons: Extensive deterioration

Iowa

8 Double Vault Privies

Rathbun Project

Appanoose IA 52544

Landholding Agency: COE

Property Number: 31200920030

Status: Excess

Directions: RTHBUN#29305, 29334, 29363, 29365, 29367, 29372, 29374, 29383

Reasons: Extensive deterioration

Double Vault Privy

Island View Park

Centerville IA 52544

Landholding Agency: COE

Property Number: 31200920031

Status: Excess

Reasons: Extensive deterioration

Kansas

Bldgs. 29016, 29017

Tuttle Creek

Riley KS 66502

Landholding Agency: COE

Property Number: 31200920035

Status: Excess

Reasons: Extensive deterioration

8 Bldgs.

Melvern Lake Project

Melvern KS 66510

Landholding Agency: COE

Property Number: 31200920036

Status: Unutilized

Directions: 05005, 23008, 40010, 40013, 60001, 60002, 81006, 81009

Reasons: Extensive deterioration

5 Bldgs.

Wilson Lake

Sylvan Grove KS 67481

Landholding Agency: COE

Property Number: 31200920037

Status: Excess

Directions: 25003, 35003, 35014, 35043, 35058

Reasons: Extensive deterioration

13 Privies

Clinton Lake Project

Lawrence KS 66049

Landholding Agency: COE

Property Number: 31200920038

Status: Excess

Reasons: Extensive deterioration

18 Privies

Milford Project Office

Junction City KS 66441

Landholding Agency: COE

Property Number: 31200920039

Status: Excess

Directions: 10016, 10017, 10018, 10019, 20009, 40011, 50006, 51001, 51002, 51003, 51022, 51023, 60006, 60007, 70003, 70004, 70005, 70006

Reasons: Extensive deterioration

5 Bldgs.

Pomona Project Office

Vassar KS

Landholding AGENCY: COE

Property Number: 31200920040

Status: Excess

Directions: 10001, 10015, 10016, 12008, 27005

Reasons: Extensive deterioration

10 Bldgs.

Pomona Project Office

Vassar KS 66543

Landholding Agency: COE

Property Number: 31200920041

Status: Excess

Directions: 30007, 30010, 30011, 30012, 30014, 30021, 30034, 30037, 30039, 30040

Reasons: Extensive deterioration

5 Bldgs.

Pomona Project Office

Vassar KS 66543

Landholding Agency: COE

Property Number: 31200920042

Status: Excess

Directions: 39001, 39002, 39003, 39004, 39005

Reasons: Extensive deterioration

7 Bldgs.

Pomona Project Office

Vassar KS 66543

Landholding Agency: COE

Property Number: 31200920043

Status: Excess

Directions: 42004, 42005, 42006, 42010, 42017, 42019, 50002

Reasons: Extensive deterioration

11 Bldgs.

Pomona Project Office

Vassar KS 66543

Landholding Agency: COE

Property Number: 31200920044

Status: Excess

Directions: 80005, 80006, 80007, 80008, 80021, 80023, 80024, 80031, 80033, 80034, 80035

Reasons: Extensive deterioration

Kentucky

Sewage Treatment Plant

Carr Creek Lake

Sassafras KY 41759

Landholding Agency: COE

Property Number: 31200920029

Status: Unutilized

Reasons: Extensive deterioration Floodway

Maryland

9 Bldgs.

National Naval Medical Ctr

Bethesda MD 20889

Landholding Agency: Navy

Property Number: 77200920028

Status: Unutilized

Directions: 17, 18, 21, 49, 69, 141, 146, 150, 174

Reasons: Extensive deterioration Secured Area

Missouri

10 Vault Comfort Station

Mark Twain Lake

Monroe City MO 63456

Landholding Agency: COE

Property Number: 31200920045

Status: Excess

Directions: CC302-7388, 7396, 7413, 7486, 7535, 7536, 7542, 7543, 7552, 7553

Reasons: Extensive deterioration

Picnic Shelter ES801-8343

Wappapello Lake Project

Wappapello MO 63966

Landholding Agency: COE

Property Number: 31200920046

Status: Excess

Reasons: Extensive deterioration

42 Privies

Stockton Project Office

Stockton MO 65785

Landholding Agency: COE

Property Number: 31200920047

Status: Excess

Directions: Cedar Ridge, Crabtree Cove, Hawker Point, High Point, Masters, Mutton Creek, Orleans Trail, Ruark Bluff East, Ruark Bluff West, Stockton Area

Reasons: Extensive deterioration

Bldgs. 47005, 47018

Pomme de Terre Lake

Hermitage MO 65724

Landholding Agency: COE

Property Number: 31200920048

Status: Unutilized

Reasons: Extensive deterioration

30 Bldgs.

Harry S. Truman Reservoir

Warsaw MO 65355

Landholding Agency: COE

Property Number: 31200920049

Status: Unutilized

Directions: 13012, 13014, 13015, 31005, 31006, 31007, 40005, 40006, 40007, 51008, 51009, 60005, 60006, 60007, 60008, 60009, 60010, 70004, 70005, 70006, 13013, 51006, 51007, 51010, 63009, 63011, 70003, 07010, 60016, 63030

Reasons: Extensive deterioration

Oklahoma

5 Bldgs.

Eufaula Lake

Stigler OK 74462

Landholding Agency: COE

Property Number: 31200920050

Status: Unutilized

Directions: EUFUAL-44237, 44147, 56608, 56609, 56570

Reasons: Extensive deterioration

61 Structures

Newt Graham Lock & Dam

Inola OK 74036

Landholding Agency: COE

Property Number: 31200920051

Status: Unutilized

Reasons: Extensive deterioration

19 Structures

Tenkiller Lake

Webber Falls

Gore OK 74435

Landholding Agency: COE

Property Number: 31200920052

Status: Unutilized

Reasons: Extensive deterioration

40 Structures

Tenkiller Lake

Gore OK 74435

Landholding Agency: COE

Property Number: 31200920053

Status: Unutilized

Reasons: Extensive deterioration

Oregon

Paint Locker

USCG Elect. Sup. Detmt.

Coos Bay OR

Landholding Agency: Coast Guard

Property Number: 88200920007

Status: Unutilized

Reasons: Secured Area

Virginia

3 Comfort Stations

John H. Kerr Lake & Dam

Mecklenburg VA 23917

Landholding Agency: COE

Property Number: 31200920054

Status: Unutilized

Directions: JHK-17450, 17451, 17457

Reasons: Extensive deterioration

[FR Doc. E9-11686 Filed 5-21-09; 8:45 am]

BILLING CODE 4210-67-P